DEPARTMENT OF COMMERCE

National Oceanic and Atmospheric Administration

50 CFR Parts 223 and 224

[Docket No. 130404330-5117-03]

RIN 0648-BC76

Endangered and Threatened Species; Designation of Critical Habitat for the Puget Sound/Georgia Basin Distinct Population Segments of Yelloweye Rockfish, Canary Rockfish and Bocaccio; Correction

AGENCY: National Marine Fisheries Service (NMFS), National Oceanic and Atmospheric Administration (NOAA), Commerce.

ACTION: Correcting amendment.

SUMMARY: This action corrects an omission in the final rule to designate critical habitat for three DPSs of rockfish from the Puget Sound/Georgia Basin. The final rule for “Designation of Critical Habitat for the Puget Sound/Georgia Basin Distinct Population Segments of Yelloweye Rockfish, Canary Rockfish and Bocaccio” failed to update the columns labeled “Critical habitat,” in the tables of threatened and endangered species to cross reference these new rules. Therefore, this document corrects the tables by citing the critical habitat designations in the columns of the tables.

DATES: This final rule is effective February 11, 2015.

ADDRESSES: Information regarding this final rule may be obtained by contacting NMFS, Endangered Species Division, 1315 East West Highway, Silver Spring, MD 20910.

FOR FURTHER INFORMATION CONTACT: Dr. Dwayne Meadows, NMFS, Office of Protected Resources (301) 427-8403.

SUPPLEMENTARY INFORMATION:

Need for Correction

In a final rule NMFS published on November 13, 2014 (79 FR 68041) to designate critical habitat for 3 DPSs of rockfishes, we did not update the columns labeled “Critical habitat” in the tables of threatened and endangered species in 50 CFR 223.102(e) and 50 CFR 224.101(h), respectively, to cross reference these new rules.

List of Subjects

50 CFR Part 223

Endangered and threatened species, Exports, Imports, Transportation.

50 CFR Part 224

Administrative practice and procedure, Endangered and threatened species, Exports, Imports, Reporting and recordkeeping requirements, Transportation.

For the reasons set out in the preamble, 50 CFR parts 223 and 224 are amended to read as follows:

PART 223—THREATENED MARINE AND ANADROMOUS SPECIES

1. The authority citation for part 223 continues to read as follows:

Authority: 16 U.S.C. 1531-1543; subpart B, § 223.201-202 also issued under 16 U.S.C. 1361 et seq.; 16 U.S.C. 5503(d) for § 223.206(d)(9).

2. In § 223.102(e), under the subheading “Fishes”, revise the table entries for “Rockfish, canary (Puget Sound/Georgia Basin DPS)”, and “Rockfish, yelloweye (Puget Sound/Georgia Basin DPS)” to read as follows:

§ 223.102 Enumeration of threatened marine and anadromous species.

* * * * *

(e) * * *

Species ¹: Common name | Species ¹: Scientific name | Species ¹: Description of listed entity | Citation(s) for listing determination(s) | Critical habitat | ESA rules
* * * * * * *
Fishes
* * * * * * *
Rockfish, canary (Puget Sound/Georgia Basin DPS) | Sebastes pinniger | Canary rockfish originating from Puget Sound and the Georgia Basin | 75 FR 22276, Apr 28, 2010 | 226.224 | NA.
Rockfish, yelloweye (Puget Sound/Georgia Basin DPS) | Sebastes ruberrimus | Yelloweye rockfish originating from Puget Sound and the Georgia Basin | 75 FR 22276, Apr 28, 2010 | 226.224 | NA.
* * * * * * *
¹ Species includes taxonomic species, subspecies, distinct population segments (DPSs) (for a policy statement, see 61 FR 4722, February 7, 1996), and evolutionarily significant units (ESUs) (for a policy statement, see 56 FR 58612, November 20, 1991).

* * * * *

PART 224—ENDANGERED MARINE AND ANADROMOUS SPECIES

3. The authority citation for part 224 continues to read as follows:

Authority: 16 U.S.C. 1531-1543 and 16 U.S.C. 1361 et seq.

4. In § 224.101, paragraph (h), under the subheading “Fishes”, revise the table entry for “Bocaccio (Puget Sound/Georgia Basin DPS)” to read as follows:

§ 224.101 Enumeration of endangered marine and anadromous species.

* * * * *

(h) * * *

Species ¹: Common name | Species ¹: Scientific name | Species ¹: Description of listed entity | Citation(s) for listing determination(s) | Critical habitat | ESA rules
* * * * * * *
Fishes
Bocaccio (Puget Sound/Georgia Basin DPS) | Sebastes paucispinis | Bocaccio originating from Puget Sound and the Georgia Basin | 75 FR 22276, Apr 28, 2010 | 226.224 | NA.
* * * * * * *
¹ Species includes taxonomic species, subspecies, distinct population segments (DPSs) (for a policy statement, see 61 FR 4722, February 7, 1996), and evolutionarily significant units (ESUs) (for a policy statement, see 56 FR 58612, November 20, 1991).

* * * * *

Dated: February 10, 2015.
Samuel D. Rauch, III,
Deputy Assistant Administrator for Regulatory Programs, National Marine Fisheries Service.

[FR Doc. 2015-03087 Filed 2-11-15; 8:45 am]

BILLING CODE 3510-22-P